DEPARTMENT OF COMMERCE

International Trade Administration

Proposed Information Collection; Comment Request; Survey of International Air Travelers

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 14, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Richard Champley or Ron Erdmann, Office of Travel & Tourism Industries (OTTI), ITA, Phone: (202) 482-0140, and fax: (202) 482-2887, E-Mail: Richard.champley@mail.doc.gov or Ron.erdmann@mail.doc.gov.

SUPPLEMENTARY INFORMATION:

I. Abstract

The “Survey of International Air Travelers” program, administered by the Office of Travel and Tourism Industries (OTTI) of the International Trade Administration provides the sole source data required to: (1) Estimate international travel and passenger fare exports, imports and the trade balance for the United States; (2) support the U.S. Department of Commerce (DOC), Bureau of Economic Analysis' (BEA) mandate to collect, analyze and report information used to calculate the Gross Domestic Product (GDP) and (3) Travel and Tourism Satellite Account for the United States.

The Survey program contains the core data that is analyzed and communicated by OTTI with other government agencies, associations and businesses that share the same objective of increasing U.S. international travel exports. The Survey assists OTTI in assessing the economic impact of international travel on state and local economies, providing visitation estimates, and identifying traveler and trip characteristics. The DOC assists travel industry enterprises to increase international travel and passenger fare exports for the country as well as outbound travel on U.S. carriers. The Survey program provides the only available estimates of nonresident visitation to the states and cities within the U.S., as well as U.S. resident travel abroad. U.S. and foreign flag airlines that voluntarily participate in the Survey program enable the collection.

II. Method of Collection

The survey will be collected by: (1) the flight attendant during the flight, or (2) the sub-contractor “interviewer” in the pre-flight departure gate area. International passengers will be prompted to complete/submit the survey after making flight arrangements via a booking engine (i.e., Worldspan) or an airline Internet site.

III. Data

OMB Control Number: 0625-0227.

Form Number(s): None.

Type of Review: Regular submission.

Affected Public: Individuals or households.

Estimated Number of Respondents: 99,400.

Estimated Time per Response: 15 minutes.

Estimated Total Annual Burden Hours: 24,850.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 7, 2008.
Gwellnar Banks,
Management Analyst, Office of the Chief Information Officer.

[FR Doc. E8-18551 Filed 8-11-08; 8:45 am]

BILLING CODE 3510-DR-P